DEPARTMENT OF ENERGY

Federal Energy Regulatory Commission

[Project No. 7274-035]

Town of Wells; Notice of Application Tendered for Filing With the Commission and Soliciting Additional Study Requests and Establishing Procedural Schedule for Relicensing and a Deadline for Submission of Final Amendments

Take notice that the following hydroelectric application has been filed with the Commission and is available for public inspection.

a. Type of Application: Subsequent License.

b. Project No.: 7274-035.

c. Date filed: July 31, 2023.

d. Applicant: Town of Wells.

e. Name of Project: Lake Algonquin Hydroelectric Project.

f. Location: On the Sacandaga River in the town of Wells, Hamilton County, New York.

g. Filed Pursuant to: Federal Power Act 16 U.S.C. 791(a)-825(r).

h. Applicant Contact: Matthew Taylor, Principle-in-Charge, GZA GeoEnvironmental of New York, 104 West 29th Street, 10th Floor, New York 10001; Phone at (781) 278-5803 or email at matthew.taylor@gza.com; or Rebekah Crewell, Supervisor, Town of Wells, P.O. Box 205, Wells, New York 12190; Phone at (518) 924-7912 or email at supervisor-rebekah-crewell@townofwells.org.

i. FERC Contact: Samantha Pollak at (202) 502-6419, or samantha.pollak@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 29, 2023.

The Commission strongly encourages electronic filing. Please file additional study requests and requests for cooperating agency status using the Commission's eFiling system at https://www.ferc.gov/docs-filing/efiling.asp. For assistance, please contact FERC Online Support at FERCOnlineSupport@ferc.gov, (866) 208-3676 (toll free), or (202) 502-8659 (TTY).

m. The application is not ready for environmental analysis at this time.

n. The Lake Algonquin Hydroelectric Project consists of the following facilities: (1) a 239-foot-long, 26.5-foot-high concrete gravity dam composed of an ogee spillway section at each end and a gated spillway section in the middle with three steel 19-foot-wide by 12-foot-high vertical lift roller gates; (2) an impoundment with a surface area of 275 acres and a storage capacity of 2,557 acre-feet at an elevation of 986.84 feet National Geodetic Vertical Datum of 1929; (3) a 27-foot-high, 21-foot-wide, 52-foot-long intake structure; (4) a 10-foot-diameter, 113-foot-long steel penstock; (5) a 25-foot-wide, 63-foot-long concrete, steel, and masonry powerhouse containing one Kaplan turbine unit with a rated capacity of 740 kilowatts; (6) a 480-volt/4.8-kilovolt (kV) step-up transformer; (7) a 4.8-kV, approximately 50-foot-long overhead transmission line; and (8) appurtenant facilities.

The project operates in a run-of-river mode with a minimum flow of 20 cubic feet per second, or reservoir inflow, whichever is less. The project has an average annual generation of 1.363 megawatt-hours between 2015 and 2020.

o. Copies of the application may be viewed on the Commission's website at https://www.ferc.gov using the “eLibrary” link. Enter the docket number excluding the last three digits in the docket number field to access the document (P-7274). For assistance, contact FERC Online Support at FERCOnlineSupport@ferc.gov or call tollfree, (866) 208-3676 or (202) 502-8659 (TTY).

You may also register online at https://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Issue Deficiency Letter (if necessary) | September 2023.
Request Additional Information | October 2023.
Issue Acceptance Letter | December 2023.
Issue Scoping Document 1 for comments | December 2023.
Request Additional Information (if necessary) | January 2024.
Issue Scoping Document 2 (if necessary) | February 2024.
Issue Notice of Ready for Environmental Analysis | February 2024.

Final amendments to the application must be filed with the Commission no later than 30 days from the issuance date of the notice of ready for environmental analysis.

Dated: August 4, 2023.
Kimberly D. Bose,
Secretary.

[FR Doc. 2023-17155 Filed 8-9-23; 8:45 am]

BILLING CODE 6717-01-P